DEPARTMENT OF VETERANS AFFAIRS

Certification of Implementation of the Caregiver Records Management Application (CARMA)

AGENCY: Department of Veterans Affairs.

ACTION: Notice.

SUMMARY: The Department of Veterans Affairs (VA) is announcing that, in accordance with the requirements of the John S. McCain III, Daniel K. Akaka, and Samuel R. Johnson VA Maintaining Internal Systems and Strengthening Integrated Outside Networks Act of 2018, or the VA MISSION Act of 2018 (MISSION Act), the Caregiver Records Management Application, or CARMA, and its integration with other related Veterans Health Administration Information Technology (IT) systems can now effectively manage and monitor the expansion of the Program of Comprehensive Assistance for Family Caregivers (PCAFC). On October 1, 2020, the Secretary of Veterans Affairs submitted to Congress a certification that VA has fully implemented the IT system required by the MISSION Act. This certification marks a major milestone in VA's implementation of the MISSION Act, enabling the Department to begin the first phase of PCAFC expansion to eligible Veterans who served prior to September 11, 2001.

DATES: This notice is effective on October 1, 2020.

FOR FURTHER INFORMATION CONTACT: Alice Boone, Caregiver Support Program, Care Management and Social Work (10P4C), Veterans Health Administration, Department of Veterans Affairs, 810 Vermont Avenue NW, Washington, DC 20420, (202) 461-6780. (This is not a toll-free number.)

SUPPLEMENTARY INFORMATION: On June 6, 2018, the John S. McCain III, Daniel K. Akaka, and Samuel R. Johnson VA Maintaining Internal Systems and Strengthening Integrated Outside Networks Act of 2018, or the VA MISSION Act of 2018 (MISSION Act), Public Law 115-182, was signed into law. Section 162(d)(3) of Public Law 115-182 required VA to report no later than October 1, 2019, on the implementation of subsections (a) through (c) of section 162. On October 7, 2019, VA informed House and Senate Committees on Veterans' Affairs and Appropriations that VA was unable to comply with the reporting requirement in section 162(d)(3) but was working diligently to implement an IT system that fully supports PCAFC and allows for data assessment and comprehensive monitoring of PCAFC. On October 1, 2020, the Secretary of Veterans Affairs submitted to Congress a certification that VA has fully implemented the IT system required by section 162(a) of the MISSION Act. VA will assess, monitor and modify PCAFC (as necessary), as required by section 162(b) and (c) of the MISSION Act and provide a final report to Congressional leaders by spring 2021.

This certification marks a major milestone in VA's implementation of the MISSION Act, enabling the Department to begin the first phase of PCAFC expansion to eligible Veterans who served prior to September 11, 2001. Pursuant to 38 U.S.C. 1720G(a)(2)(B)(ii), effective October 1, 2020, PCAFC eligibility was expanded to include eligible Veterans who incurred or aggravated a serious injury in the line of duty in the active military, naval or air service on or before May 7, 1975. Pursuant to 38 U.S.C. 1720G(a)(2)(B)(iii), effective October 1, 2022, PCAFC eligibility will be expanded to include eligible Veterans who incurred or aggravated a serious injury in the line of duty in the active military, naval or air service after May 7, 1975, and before September 11, 2001.

VA's Final Rule, PCAFC Improvements and Amendments under the VA MISSION Act of 2018, 85 FR 46226 (July 31, 2020), makes improvements to PCAFC and updates 38 CFR, part 71, to comply with the MISSION Act. The Final Rule, effective October 1, 2020, includes references to the date of the certification required by 38 U.S.C. 1720G(a)(2)(B)(i) in 38 CFR 71.20(a)(2)(ii) and (iii) and 71.25(a)(3)(ii)(A) and (B). For purposes of 38 CFR 71.20(a)(2)(ii) and (iii), effective October 1, 2020, the “date specified in a future Federal Register document” is October 1, 2020. For purposes of 38 CFR 71.25(a)(3)(ii)(A) and (B), effective October 1, 2020, the “date published in a future Federal Register document” is October 1, 2020.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on October 1, 2020 for publication.

Luvenia Potts,
Regulation Development Coordinator, Office of Regulation Policy & Management, Office of the Secretary, Department of Veterans Affairs.

[FR Doc. 2020-22093 Filed 10-6-20; 8:45 am]

BILLING CODE 8320-01-P